DEPARTMENT OF HOMELAND SECURITY

Federal Emergency Management Agency

44 CFR Part 67

[Docket ID FEMA-2010-0003; Internal Agency Docket No. FEMA-B-1120]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 1, 2010.

ADDRESSES: The corresponding preliminary Flood Insurance Rate Map (FIRM) for the proposed BFEs for each community is available for inspection at the community's map repository. The respective addresses are listed in the table below.

You may submit comments, identified by Docket No. FEMA-B-1120, to Kevin C. Long, Acting Chief, Engineering Management Branch, Mitigation Directorate, Federal Emergency Management Agency, 500 C Street SW., Washington, DC 20472, (202) 646-2820, or (e-mail) kevin.long@dhs.gov.

FOR FURTHER INFORMATION CONTACT: Kevin C. Long, Acting Chief, Engineering Management Branch, Mitigation Directorate, Federal Emergency Management Agency, 500 C Street SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Tazewell County, Illinois, and Incorporated Areas
Bull Run Creek | Approximately 900 feet upstream of the confluence with Prairie Creek | None | +655 | Unincorporated Areas of Tazewell County, Village of Morton
| At the upstream side of Idlewood Street extended | None | +680
Dempsey Creek | Approximately 1.40 mile upstream of the confluence with Farm Creek | None | +541 | Unincorporated Areas of Tazewell County.
| Approximately 2.56 miles upstream of the confluence with Farm Creek | None | +603
Farm Creek | Approximately 770 feet upstream of the railroad bridge | None | +740 | Unincorporated Areas of Tazewell County.
| At the downstream side of Diebel Road | None | +742
Fond Du Lac Creek | At the confluence with Farm Creek | None | +500 | Unincorporated Areas of Tazewell County.
| At the downstream side of East Washington Street (IL-8) | None | +508
Illinois River | At the upstream side of Mason Road extended | +455 | +454 | City of Pekin, Unincorporated Areas of Tazewell County.
| Approximately 1,950 feet upstream of Illinois Highway 9 | +458 | +457
Lick Creek | Approximately 480 feet downstream of Parkway Drive | None | +472 | City of Pekin.
| Approximately 680 feet upstream of Parkway Drive | None | +476
Mackinaw River | Approximately 0.97 mile downstream of Dee Mack Road (County Highway 6) | None | +588 | Village of Mackinaw.
| Approximately 0.78 mile downstream of Dee Mack Road (County Highway 6) | None | +591
Prairie Creek | Approximately 0.49 mile downstream of the confluence with Bull Run Creek | None | +648 | Unincorporated Areas of Tazewell County.
| Approximately 280 feet downstream of the confluence with Bull Run Creek | None | +654
School Creek | At the confluence with Farm Creek | None | +509 | City of East Peoria, Unincorporated Areas of Tazewell County.
| Approximately 80 feet west of Rio Drive extended | None | +622
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of East Peoria
Maps are available for inspection at City Hall, 100 South Main Street, East Peoria, IL 61611.
City of Pekin
Maps are available for inspection at City Hall, 111 South Capitol Street, Pekin, IL 61554.
Unincorporated Areas of Tazewell County
Maps are available for inspection at the McKenzie Building, 11 South 4th Street, 4th Floor, Pekin, IL 61554.
Village of Mackinaw
Maps are available for inspection at the Village Hall, 100 East Fast Street, Mackinaw, IL 61755.
Village of Morton
Maps are available for inspection at the Village Hall, 120 North Main Street, Morton, IL 61550.
Kennebec County, Maine (All Jurisdictions)
Berry Pond | Entire shoreline north of Dexter Pond Road | +245 | +246 | Town of Winthrop.
Echo Lake | Entire shoreline within the Town of Fayette | None | +317 | Town of Fayette.
Kennebec River | Approximately 3.5 miles upstream of I-95 | None | +44 | Town of Vassalboro.
| Approximately 2.6 miles downstream of Carter Memorial Drive Bridge | None | +55
Little Pond | Entire shoreline within the Town of Rome | None | +256 | Town of Rome.
Long Pond | Entire shoreline within the Town of Windsor | None | +187 | Town of Windsor.
Lovejoy Pond | Entire shoreline within the Town of Fayette | None | +304 | Town of Fayette.
Messalonskee Stream | At the County Road Bridge | None | +105 | Town of Oakland.
| At the boundary between the City of Waterville and Somerset County | None | +105
North Pond | Entire shoreline within the Town of Rome | None | +256 | Town of Rome.
Sebasticook River | Approximately 2,500 feet downstream of the boundary between the Town of Clinton and Waldo County | None | +129 | Township of Unity.
| At the boundary between the Town of Clinton and Waldo County | None | +132
Threecornered Pond | Entire shoreline north of Weeks Mills Road | None | +196 | Town of Windsor.
Threemile Pond | Entire shoreline north of Weeks Mills Road | None | +185 | Town of Windsor.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Fayette
Maps are available for inspection at the Town Hall, 2589 Main Street, Fayette, ME 04349.
Town of Oakland
Maps are available for inspection at the Town Hall, 6 Cascade Mill Road, Oakland, ME 04963.
Town of Rome
Maps are available for inspection at the Town Hall, 8 Mercer Road, Rome, ME 04963.
Town of Vassalboro
Maps are available for inspection at the Town Hall, 682 Main Street, Vassalboro, ME 04989.
Town of Windsor
Maps are available for inspection at the Town Hall, 523 Ridge Road, Windsor, ME 04363.
Town of Winthrop
Maps are available for inspection at the Town Office, 17 Highland Avenue, Winthrop, ME 04364.
Township of Unity
Maps are available for inspection at the Kennebec County Office, 125 State Street, Augusta, ME 04330.
Perry County, Missouri, and Incorporated Areas
Apple Creek | At a dam/unnamed road crossing approximately 300 feet downstream of U.S. Route 61 | +400 | +399 | Unincorporated Areas of Perry County.
| Approximately 250 feet upstream of U.S. Route 61 | +402 | +403
Apple Creek (Backwater effects from Mississippi River) | From the confluence with the Mississippi River to approximately 3.6 miles upstream of the confluence with the Mississippi River | None | +368 | Unincorporated Areas of Perry County.
Apple Creek Tributary 3 (Backwater effects from Mississippi River) | From the confluence with Apple Creek upstream to County Road 456 | None | +368 | Unincorporated Areas of Perry County.
Blue Spring Branch (Backwater effects from Mississippi River) | From the confluence with the Mississippi River to approximately 1.1 mile upstream of Christian Street | None | +390 | Town of Lithium, Unincorporated Areas of Perry County.
Blue Spring Branch Tributary 1 (Backwater effects from Mississippi River) | From the confluence with Blue Spring Branch to approximately 0.5 mile upstream of County Road 926 | None | +390 | Unincorporated Areas of Perry County.
Blue Spring Branch Tributary 3 (Backwater effects from Mississippi River) | From the confluence with Blue Spring Branch to approximately 0.4 mile upstream of County Road 916 | None | +390 | Unincorporated Areas of Perry County.
Brazeau Creek (Backwater effects from Mississippi River) | From the confluence with the Mississippi River to approximately 1.0 mile upstream of County Road 446 | None | +372 | Unincorporated Areas of Perry County.
Brazeau Creek Tributary 3 (Backwater effects from Mississippi River) | From the confluence with Brazeau Creek to approximately 0.5 mile upstream of County Road 438 | None | +372 | Unincorporated Areas of Perry County.
Brazeau Creek Tributary 5 (Backwater effects from Mississippi River) | From the confluence with Brazeau Creek to approximately 250 feet upstream of Missouri Route A | None | +372 | Unincorporated Areas of Perry County.
Christenson Branch Creek (Backwater effects from Mississippi River) | From the confluence with the Mississippi River to approximately 350 feet upstream of the confluence with McClanahan Creek | None | +385 | Unincorporated Areas of Perry County.
Cinque Hommes Creek (Backwater effects from Mississippi River) | From the confluence with the Mississippi River to approximately 3 miles upstream of County Road 322 | None | +384 | Unincorporated Areas of Perry County.
Clines Branch (Backwater effects from Mississippi River) | From the confluence with the Mississippi River to approximately 1,400 feet downstream of the intersection of Missouri Route D and County Road 438 | None | +378 | Unincorporated Areas of Perry County.
Doodlebug Branch (Backwater effects from Mississippi River) | From the confluence with Cinque Hommes Creek to approximately 4,000 feet upstream | None | +382 | Unincorporated Areas of Perry County.
Dry Fork (Backwater effects from Mississippi River) | From the confluence with Cinque Hommes Creek to approximately 1.4 mile upstream | None | +384 | Unincorporated Areas of Perry County.
Dry Fork Tributary 1 (Backwater effects from Mississippi River) | From the confluence with Dry Fork to approximately 0.6 mile upstream | None | +384 | Unincorporated Areas of Perry County.
Falls Branch (Backwater effects from Mississippi River) | From the confluence with Blue Spring Branch to approximately 0.8 mile upstream of Missouri Route M | None | +390 | Unincorporated Areas of Perry County.
McClanahan Creek (Backwater effects from Mississippi River) | From the confluence with Christenson Branch Creek to approximately 0.9 mile upstream of the confluence with Christenson Branch Creek | None | +385 | Unincorporated Areas of Perry County.
Mississippi River | At the Cape Girardeau County boundary | +370 | +368 | Town of Lithium, Unincorporated Areas of Perry County.
| At the Ste. Genevieve County boundary | +393 | +391
Mississippi River Tributary 21 (Backwater effects from Mississippi River) | From the confluence with the Mississippi River to approximately 0.45 mile upstream of the confluence with the Mississippi River | None | +376 | Unincorporated Areas of Perry County.
Mississippi River Tributary 25 (Backwater effects from Mississippi River) | From the confluence with the Mississippi River to approximately 0.8 mile upstream of the confluence with the Mississippi River | None | +378 | Unincorporated Areas of Perry County.
Omete Creek (Backwater effects from Mississippi River) | From the confluence with Cinque Hommes Creek to approximately 1.0 mile upstream of County Road 340 | None | +380 | Unincorporated Areas of Perry County.
Omete Creek Tributary 2 (Backwater effects from Mississippi River) | From the confluence with Omete Creek to approximately 0.73 mile upstream of Omete Creek | None | +380 | Unincorporated Areas of Perry County.
Owl Creek (Backwater effects from Mississippi River) | From the confluence with the Mississippi River to approximately 2.2 miles upstream of the confluence with the Mississippi River | None | +373 | Unincorporated Areas of Perry County.
Patton Creek (Backwater effects from Mississippi River) | From the confluence with the Mississippi River to approximately 0.76 mile upstream of the confluence with the Mississippi River | None | +369 | Unincorporated Areas of Perry County.
Patton Creek Tributary 1 (Backwater effects from Mississippi River) | From the confluence with the Mississippi River to approximately 1.2 mile upstream of the confluence with the Mississippi River | None | +370 | Unincorporated Areas of Perry County.
Saint Laurent Creek (Backwater effects from Mississippi River) | From the county boundary to approximately 1.2 mile upstream to Missouri Route H | None | +391 | Unincorporated Areas of Perry County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Lithium
Maps are available for inspection at 321 North Main Street, Suite 5, Perryville, MO 63775.
Unincorporated Areas of Perry County
Maps are available for inspection at 321 North Main Street, Suite 5, Perryville, MO 63775.
Miami County, Ohio, and Incorporated Areas
Great Miami River | Approximately 1.0 mile upstream of Peterson Road | None | +854 | City of Piqua.
| Approximately 1.1 mile upstream of County Highway 25A | None | +866
Great Miami River | At the Montgomery County boundary | None | +791 | City of Tipp City, Unincorporated Areas of Miami County.
| At State Highway 571 | None | +791
Hatfield Ditch | Approximately 750 feet upstream of Main Street | None | +914 | Unincorporated Areas of Miami County.
| Approximately 2,000 feet upstream of Main Street | None | +931
Staunton Tributary | Approximately 1,865 feet downstream of Old Staunton Road | None | +825 | City of Troy, Unincorporated Areas of Miami County.
| Approximately 350 feet downstream of Stonyridge Avenue | None | +830
Stillwater River | At the Montgomery County boundary | None | +832 | City of Union, Unincorporated Areas of Miami County, Village of West Milton.
| Approximately 0.8 mile downstream of State Highway 55 | None | +832
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Piqua
Maps are available for inspection at 201 West Water Street, Piqua, OH 45356.
City of Tipp City
Maps are available for inspection at 260 South Garber Drive, Tipp City, OH 45371.
City of Troy
Maps are available for inspection at City Hall, 100 South Market Street, Troy, OH 45373.
City of Union
Maps are available for inspection at 118 North Main Street, Union, OH 45322.
Unincorporated Areas of Miami County
Maps are available for inspection at 201 West Main Street, Troy, OH 45373.
Village of West Milton
Maps are available for inspection at 701 South Miami Street, West Milton, OH 45383.

(Catalog of Federal Domestic Assistance No. 97.022, “Flood Insurance.”)

Dated: May 14, 2010.
Sandra K. Knight,
Deputy Federal Insurance and Mitigation Administrator, Mitigation, Department of Homeland Security, Federal Emergency Management Agency.

[FR Doc. 2010-13264 Filed 6-2-10; 8:45 am]

BILLING CODE 9110-12-P